DEPARTMENT OF COMMERCE

Census Bureau

2002 Business Expenses Survey

ACTION: Proposed collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before July 23, 2002.

ADDRESSES: Direct all written comments to Madeleine Clayton, Departmental Paperwork Clearance Officer, Department of Commerce, Room 6608, 14th and Constitution Avenue, NW, Washington, DC 20230 (or via the Internet at mclayton@doc.gov).

FOR FURTHER INFORMATION CONTACT: Requests for additional information or copies of the information collection instrument(s) and instructions should be directed to Sheldon G. Ziman, U. S. Census Bureau, Room 1183, Building 3, Washington DC 20233-6400 (301-457-3315), or via the Internet at sheldon.g.ziman@census.gov.

SUPPLEMENTARY INFORMATION:

I. Abstract

The business expenses survey is conducted as part of the economic census, which is required by law to be taken every five years under Title 13 of the United States Code. The 2002 Business Expenses Survey will be conducted on a sample basis for the collection of data on business operating expenses to complement data on sales and inventories compiled in current surveys. Together, these data are benchmarked to the economic census and are used to compile measures of value produced for selected industries. The collection of business expenses data is required for reliable measurement of the United States economy. As such, the Bureau of Economic Analysis (BEA), producer of gross domestic product estimates, is the primary user of these data. The BEA uses the expenses data for developing the national income and product accounts, input-output tables, and economic indexes, and to fill previously identified critical gaps in underlying data in these accounts.

Industrial sectors covered by the survey include wholesale trade, retail trade, and most of the transportation and service sectors, as based on the 1997 North American Industry Classification System (NAICS).

The information collected will produce statistics by kind of business on operating expenses such as labor costs, depreciation, rent, materials and supplies, utilities, and purchased services such as advertising, repairs, legal, accounting, and computer services. The primary strategy for minimizing burden in this survey is the use of sampling and sub-sampling, and where possible, supplementing the Census Bureau's business annual surveys as the data collection vehicle.

II. Method of Collection

The 2002 Business Expenses Survey will be conducted using mailout/mailback procedures, where possible supplementing the Census Bureau's business annual surveys. The sample to be used was previously created for the business current surveys, covering wholesale trade, retail trade, and most of the transportation and service industrial sectors. Most multi-location companies included in the sample will receive a separate form to consolidate their data for each unique kind of business operated. Only employer businesses will be mailed. Data for non-employers for selected industries will be estimated based on administrative records. The questionnaires will be mailed from the Census Bureau's National Processing Center in Jeffersonville, Indiana. Three periodic mail follow-ups and a telephone follow-up will be conducted to minimize statistical error due to nonresponse. Upon closeout of data collection, the response data will be edited and reviewed.

III. Data

OMB Number: Not available.

Form Number: Not available. Some of the forms to be used to collect information for the 2002 Business Expenses Survey will be associated with concurrent business annual surveys of wholesale, retail, and selected service businesses. For industries not covered in the annual surveys, such as selected finance, insurance, real estate, transportation, and education services, unique forms will be used. Requests for information on the proposed content of the forms should be directed to Sheldon G. Ziman, U. S. Census Bureau, Room 1183, Building 3, Washington DC 20233-6400 (301-457-3315) or via the Internet at sheldon.g.ziman@census.gov.

Type of Review: Regular review.

Affected Public: Incorporated and non-incorporated businesses, and for profit and not for profit institutions or organizations

Estimated Number of Respondents: 90,000 employer reporting units.

Estimated Time Per Response: The average for multi-location firms is 2.2 hours and the average for single-location firms is 1.2 hours.

Estimated Total Annual Burden Hours: 160,000 hours.

Estimated Total Annual Cost to Respondents: $3.1 million.

Respondent's Obligation: Mandatory.

Legal Authority: Title 13, United States Code, Sections 131, 193, 195, and 224.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: May 20, 2002.
Madeleine Clayton,
Departmental Paperwork Clearance Officer, Office of the Chief Information Officer.

[FR Doc. 02-13085 Filed 5-23-02; 8:45 am]

BILLING CODE 3510-07-P